DEPARTMENT OF COMMERCE

National Oceanic and Atmospheric Administration

RIN 0648-XG478

Endangered and Threatened Species; Take of Abalone

AGENCY: National Marine Fisheries Service (NMFS), National Oceanic and Atmospheric Administration (NOAA), Commerce.

ACTION: Application for one enhancement permit.

SUMMARY: Notice is hereby given that NMFS has received a permit application request for one new enhancement permit. The proposed work is intended to increase knowledge of species listed under the Endangered Species Act (ESA) and to help guide management, conservation, and recovery efforts. The application may be viewed online at: https://apps.nmfs.noaa.gov/preview/preview_open_for_comment.cfm.

DATES: Comments or requests for a public hearing on the application must be received at the appropriate address or fax number (see ADDRESSES) no later than 5 p.m. Pacific standard time on October 26, 2018.

ADDRESSES: Written comments on the application should be submitted to the Protected Resources Division, NMFS, 501 West Ocean Boulevard, Suite 4200, Long Beach, CA 90802. Comments may also be submitted via fax to 562-980-4027 or by email to nmfs.swr.apps@noaa.gov (include the permit number in the subject line of the fax or email).

FOR FURTHER INFORMATION CONTACT: Susan Wang, Long Beach, CA (ph.: 562-980-4199, Fax: 562-980-4027, email: Susan.Wang@noaa.gov). Permit application instructions are available from the address above, or online at https://apps.nmfs.noaa.gov.

SUPPLEMENTARY INFORMATION:

Species Covered in This Notice

The following listed species are covered in this notice:

Endangered white abalone (Haliotis sorenseni).

Authority

Enhancement permits are issued in accordance with section 10(a)(1)(A) of the ESA (16 U.S.C. 1531 et seq.) and regulations governing listed fish and wildlife permits (50 CFR parts 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on the application listed in this notice should set out the specific reasons why a hearing on the application would be appropriate (see ADDRESSES). Such hearings are held at the discretion of the Assistant Administrator for Fisheries, NMFS.

Application Received

Permit 18116

The NMFS West Coast Region (WCR) has requested a five-year enhancement permit to annually take larval, juvenile, and adult white abalone in California. The purpose of the proposed work is to experimentally outplant white abalone along the Southern California Coast and determine which methods, locations, habitats, sizes, and densities yield the greatest growth and survival of white abalone. The activities would benefit the listed species by increasing numbers of white abalone in the wild and informing future large-scale outplanting efforts to create self-sustaining populations in locations where white abalone are close to or at local extinction. The NMFS WCR proposes to evaluate three approaches. First, captive-bred juveniles would be outplanted using two different types of outplanting modules: (1) Baby abalone recruitment trackers (BARTs); and (2) smaller, short-term abalone fixed enclosures (SAFEs). Second, captive-reared larvae would be outplanted using a larval pump module and a net “tent” designed to retain larvae until settlement. Third, captive-bred adults or wild-collected broodstock would be hand-placed at sites where wild white abalone have been observed. All outplanting would be conducted within the Southern California Bight and would use white abalone maintained and collected under Enhancement Permit 14344-2R, issued under section 10(a)(1)(A) of the ESA to the University of California, Davis—Bodega Marine Laboratory. Growth, survival, genetics, health, and habitat quality would be monitored at regular intervals following outplanting. Post-outplant monitoring would primarily consist of non-lethal, non-capture take to observe, count, measure, and collect samples from abalone. Post-outplant monitoring will occur on a quarterly to annual basis for each outplanting method and will involve collecting shell length, genetic samples, fecal samples, time lapse camera images, and empty shells. The researchers do not intend to kill any listed white abalone, but some may die as an inadvertent result of the research and enhancement activities.

This notice is provided pursuant to section 10(c) of the ESA. NMFS will evaluate the applications, associated documents, and comments submitted to determine whether the application meets the requirements of section 10(a) of the ESA and Federal regulations. The final permit decisions will not be made until after the end of the 30-day comment period. NMFS will publish notice of its final action in the Federal Register.

Dated: September 20, 2018.
Angela Somma,
Chief, Endangered Species Division, Office of Protected Resources, National Marine Fisheries Service.

[FR Doc. 2018-20867 Filed 9-25-18; 8:45 am]

BILLING CODE 3510-22-P